DEFENSE NUCLEAR FACILITIES SAFETY BOARD

Draft Revised Strategic Plan for FY 2014-2018

AGENCY: Defense Nuclear Facilities Safety Board.

ACTION: Notice.

SUMMARY: In accordance with Office of Management and Budget Circular No. A-11, the Defense Nuclear Facilities Safety Board (DNFSB) is soliciting comments from all interested and potentially affected parties on its draft revised strategic plan. DNFSB will consider all comments received as a result of this outreach effort. The draft plan is available for review on DNFSB's Web site at http://www.dnfsb.gov/. Comments may be sent to the acting Deputy General Manager at mailbox@dnfsb.gov or the address below.

DATES: Comments will be accepted during the period November 1, 2013 through November 30, 2013.

ADDRESSES: Send comments concerning this notice to: Defense Nuclear Facilities Safety Board, 625 Indiana Avenue NW., Suite 700, Washington, DC 20004-2001.

FOR FURTHER INFORMATION CONTACT: Mr. Mark Welch, Acting Deputy General Manager, 202-694-7060.

SUPPLEMENTARY INFORMATION: This draft strategic plan will replace DNFSB's FY 2011-2016 Strategic Plan, dated March 1, 2011.

Dated: October 29, 2013.
Peter S. Winokur,
Chairman.

[FR Doc. 2013-26363 Filed 11-1-13; 8:45 am]

BILLING CODE 3670-01-P